DEPARTMENT OF VETERANS AFFAIRS

Veterans' Disability Benefits Commission; Amendment Notice of Meeting (FR Doc. 06-1514 Filed 2-16-06; 8:45 a.m.)

The Department of Veterans Affairs (VA) gives notice under Public Law 92-463 (Federal Advisory Committee Act) that the Veterans' Disability Benefits Commission meeting scheduled on March 16-17, 2006, at the Holiday Inn National Airport, 2650 Jefferson Davis Highway, Arlington, VA, will begin each day at 8 a.m. instead of 8:30 a.m. to allow more time for Commission discussion.

For additional information, please contact Mr. Ray Wilburn, Executive Director, Veterans' Disability Benefits Commission, 1101 Pennsylvania Avenue, NW., 5th Floor, Washington, DC 20004, or by e-mail at veterans@vetscommission.intranets.com.

Dated: February 27, 2006.
By Direction of the Secretary.
E. Philip Riggin,
Committee Management Officer.

[FR Doc. 06-2109 Filed 3-6-06; 8:45 am]

BILLING CODE 8320-01-M